COMMISSION ON CIVIL RIGHTS

Agenda and Notice of Public Meeting of the Wyoming Advisory Committee

Notice is hereby given, pursuant to the provisions of the rules and regulations of the U.S. Commission on Civil Rights and the regulations of the Federal Advisory Committee Act (FACA), that a meeting of the Wyoming Advisory Committee will convene at 10 a.m. and adjourn at 1 p.m. (MST) on Saturday, May 9, 2009 at Holland Hart LLP, 2515 Warren Avenue, Suite 450, Cheyenne, WY 82003.

The purpose of the meeting is to brief the committee on civil rights issues that include voting rights and responsibilities of the U.S. Attorneys office of Wyoming. The committee will discuss recent Commission and regional activities, discuss current civil rights issues in the state, and plan future activities.

Persons desiring additional information, or planning a presentation to the Committee, should contact Malee V. Craft, Director of the Rocky Mountain Regional Office, (303) 866-1040 (TDD 303-866-1049). Hearing-impaired persons who will attend the meeting and require the services of a sign language interpreter should contact the Regional Office at least ten (10) working days before the scheduled date of the meeting.

The meeting will be conducted pursuant to the provisions of the rules and regulations of the Commission.

Dated at Washington, DC, April 21, 2009.
Christopher Byrnes,
Chief, Regional Programs Coordination Unit.

[FR Doc. E9-9460 Filed 4-23-09; 8:45 am]

BILLING CODE 6335-01-P